DEPARTMENT OF ENERGY

Federal Energy Regulatory Commission

[Docket No. RP00-455-001]

Honeoye Storage Corporation; Notice of Compliance Filing

October 4, 2000.

Take notice that on September 28, 2000 Honeoye Storage Corporation (Honeoye) tendered for filing as part of its FERC Gas Tariff, Second Revised Volume 1, Substitute First Revised Sheet No. 22, Substitute Original Sheet 22A, and Substitute Original Sheet 22B, to be effective September 15, 2000.

Honeoye states that the purpose of the filing is to comply with the Commission's September 14, 2000 letter order in Docket No. RP00-455-000 which accepted two proposed changes to Honeoye's Part 157 gas tariff and rejected without prejudice one proposed tariff change. On August 10, 2000 Honeoye filed revised tariff sheets which contained, among other things, a new provision that would have granted customers the right to make title transfers to other customers of gas which is held in the Honeoye gas field. The Commission's September 14 order found that the title transfer right provided more flexibility to Part 157 customers than is allowed under Commission policy. Consequently, Honeoye is deleting the title transfer right from the General Terms and Conditions of its Part 157 tariff. The revised tariff sheets reflect the other revisions to the General Terms and Conditions of Honeoye's Part 157 gas tariff that were accepted by the Commission.

Honeoye states that copies of the filing are being mailed to Honeoye's jurisdictional customers and interested state regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-26047 Filed 10-10-00; 8:45 am]

BILLING CODE 6717-01-M